DEPARTMENT OF HOUSING AND URBAN DEVELOPMENT

[Docket No. FR-4901-N-21]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Department of the Army, Office of the Assistant Chief of Staff for Installation Management, Attn: DAIM-MD, Room 1E677, 600 Army Pentagon, Washington, DC 20310-0600; (703) 602-5180; Coast Guard: Commandant, United States Coast Guard, ATTN: Teresa Sheinberg, 2100 Second St., SW., Rm 6109, Washington, DC 20314-1000; (202) 267-6142; GSA: Mr. Brian K. Polly, Assistant Commissioner, General Services Administration, Office of Property Disposal, 18th and F Streets, NW., Washington, DC 20405; (202) 501-0084; Energy: Mr. Andy Duran, Department of Energy, Office of Engineering & Construction Management, ME-90, 1000 Independence Ave., SW., Washington, DC 20585; (202) 586-4548; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: May 13, 2004.
Mark R. Johnston,
Acting Director, Office of Special Needs Assistance Programs.

Title V, Federal Surplus Property Program Federal Register Report for 5/21/04

Suitable/Available Properties

Buildings (by State)

Florida

Federal Building 124 S. Tennessee Avenue

Lakeland Co: Polk FL

Landholding Agency: GSA

Property Number: 54200420010

Status: Surplus

Comment: 7575 sq. ft., will be vacant March 2005, historic covenants

GSA Number: 4-G-FL-1217

Kentucky

Tract 3018

Berea Ranger District

125 Cherry Road

Berea Co: KY 40403-

Landholding Agency: GSA

Property Number: 54200420014

Status: Excess

Comment: 1696 sq. ft., needs repair, possible lead-based paint, most recent use—residential

GSA Number: 4-A-KY-0616

Texas

Cotulla Border Station

602 N. Main Street

Cotulla Co: LaSalle TX 78014-

Landholding Agency: GSA

Property Number: 54200420008

Status: Surplus

Comment: 2190 sq. ft., cinder block, presence of asbestos/lead paint, most recent use—border patrol office, subject to existing easements

GSA Number: 7-D-CO-0648

Wisconsin

SSA Office Building

203 West Court Street

Janesville Co: WI 53545-

Landholding Agency: GSA

Property Number: 54200420009

Status: Surplus

Comment: 6278 sq. ft. w/parking, most recent use—office

GSA Number: 1-G-WI-604

Land (by State)

Kansas

Parcels 2, 3, 4, 5

Portions/Milford Lake

Hwy 77

Junction City Co: Geary KS

Landholding Agency: GSA

Property Number: 54200420006

Status: Excess

Comment: 2 = 2.2 acres, 3 = 8.4 acres, 4 = 20 acres, 5 = 97.6 acres, most recent use—forestry research

GSA Number: 7-GR-KS-0497

Mississippi

Communication Tower Site

Kiln Co: MS

Landholding Agency: GSA

Property Number: 54200420013

Status: Excess

Comment: 3.20 acre w/VHF tower and storage bldg., encumbered by an easement and a license

GSA Number: 4-D-MS-563A

Pennsylvania

Tract RA34

Indian Rock Dam

Joseph Road

New Salem Co: York PA 17403-

Landholding Agency: GSA

Property Number: 54200420015

Status: Excess

Comment: 3.26 acres, most recent use—wildlife management

GSA Number: 4-D-PA-0797

Suitable/Unavailable Properties

Buildings (by State)

Hawaii

Bldg. 284

Naval Station

Pearl Harbor Co: Honolulu HI 96860-4100

Landholding Agency: Navy

Property Number: 77200420031

Status: Unutilized

Comment: 22,304 sq. ft., possible asbestos/lead paint, most recent use—office

Bldg. 285

Naval Station

Pearl Harbor Co: Honolulu HI 96860-4100

Landholding Agency: Navy

Property Number: 77200420032

Status: Unutilized

Comment: 960 sq. ft., possible asbestos/lead paint, most recent use—storage

Land (by State)

Hawaii

PSD Parcel

Naval Station

Pearl Harbor Co: Honolulu HI 96860-4100

Landholding Agency: Navy

Property Number: 77200420033

Status: Unutilized

Comment: 8.35 acres

Unsuitable Properties

Buildings (by State)

Alabama

Bldg. 00014

Redstone Arsenal

Redstone Arsenal Co: Madison AL 35898-5000

Landholding Agency: Army

Property Number: 21200420068

Status: Unutilized

Reasons: Secured Area, Extensive deterioration

Bldg. 00039

Redstone Arsenal

Redstone Arsenal Co: Madison AL 35898-5000

Landholding Agency: Army

Property Number: 21200420069

Status: Unutilized

Reasons: Secured Area, Extensive deterioration

Bldg. 03438

Redstone Arsenal

Redstone Arsenal Co: Madison AL 35898-5000

Landholding Agency: Army

Property Number: 21200420070

Status: Unutilized

Reasons: Secured Area, Extensive deterioration

Bldg. 04709

Redstone Arsenal

Redstone Arsenal Co: Madison AL 35898-5000

Landholding Agency: Army

Property Number: 21200420071

Status: Unutilized

Reasons: Secured Area, Extensive deterioration

Bldgs. 01421, 01108

Fort Rucker

Ft. Rucker Co: Dale AL 36362-

Landholding Agency: Army

Property Number: 21200420072

Status: Unutilized

Reason: Extensive deterioration

Bldg. 26601

Fort Rucker

Kinston Co: Coffee AL 36453-

Landholding Agency: Army

Property Number: 21200420073

Status: Unutilized

Reason: Extensive deterioration

Alaska

Bldg. 651

Fort Greely

Delta Junction Co: Fairbanks AK 99737-

Landholding Agency: Army

Property Number: 21200420066

Status: Unutilized

Reasons: Secured Area, Extensive deterioration

Bldg. 659

Fort Greely

Delta Junction Co: Fairbanks AK 99737-

Landholding Agency: Army

Property Number: 21200420067

Status: Unutilized

Reasons: Secured Area, Extensive deterioration

California

Bldg. 62458

Marine Corps Base

Camp Pendleton Co: CA 92055-

Landholding Agency: Navy

Property Number: 77200420021

Status: Excess

Reason: Extensive deterioration

Bldg. 2660

Marine Corps Base

Camp Pendleton Co: CA 92055-

Landholding Agency: Navy

Property Number: 77200420022

Status: Excess

Reason: Extensive deterioration

Bldg. 1223

Marine Corps Base

Camp Pendleton Co: CA 92055-

Landholding Agency: Navy

Property Number: 77200420023

Status: Excess

Reasons: Secured Area, Extensive deterioration

Bldg. 2514

Marine Corps Base

Camp Pendleton Co: CA 92055-

Landholding Agency: Navy

Property Number: 77200420024

Status: Excess

Reasons: Secured Area, Extensive deterioration

Bldg. 2660

Marine Corps Base

Camp Pendleton Co: CA 92055-

Landholding Agency: Navy

Property Number: 77200420025

Status: Excess

Reasons: Secured Area, Extensive deterioration

Bldgs. 14103, 14104

Marine Corps Base

Camp Pendleton Co: CA 92055-

Landholding Agency: Navy

Property Number: 77200420026

Status: Excess

Reasons: Secured Area, Extensive deterioration

Bldg. 27604

Marine Corps Base

Camp Pendleton Co: CA 92055-

Landholding Agency: Navy

Property Number: 77200420027

Status: Excess

Reasons: Secured Area, Extensive deterioration

Bldg. 43311

Marine Corps Base

Camp Pendleton Co: CA 92055-

Landholding Agency: Navy

Property Number: 77200420028

Status: Excess

Reasons: Secured Area, Extensive deterioration

Bldg. 178

Naval Air Facility

El Centro Co: CA 92243-

Landholding Agency: Navy

Property Number: 77200420035

Status: Unutilized

Reasons: Within 2000 ft. of flammable or explosive material Secured Area, Extensive deterioration

Bldg. 187

Naval Air Facility

El Centro Co: CA 92243-

Landholding Agency: Navy

Property Number: 77200420036

Status: Unutilized

Reasons: Within 2000 ft. of flammable or explosive material Secured Area, Extensive deterioration

Bldg. 197

Naval Air Facility

El Centro Co: CA 92243-

Landholding Agency: Navy

Property Number: 77200420037

Status: Unutilized

Reasons: Within 2000 ft. of flammable or explosive material Secured Area, Extensive deterioration

Colorado

Bldg. T223

Fort Carson

Ft. Carson Co: El Paso CO 80913-

Landholding Agency: Army

Property Number: 21200420161

Status: Underutilized

Reason: Within 2000 ft. of flammable or explosive material

Bldg. T224

Fort Carson

Ft. Carson Co: El Paso CO 80913-

Landholding Agency: Army

Property Number: 21200420162

Status: Underutilized

Reason: Within 2000 ft. of flammable or explosive material

Bldg. T225

Fort Carson

Ft. Carson Co: El Paso CO 80913-

Landholding Agency: Army

Property Number: 21200420163

Status: Underutilized

Reason: Within 2000 ft. of flammable or explosive material

Bldg. T226

Fort Carson

Ft. Carson Co: El Paso CO 80913-

Landholding Agency: Army

Property Number: 21200420164

Status: Underutilized

Reason: Within 2000 ft. of flammable or explosive material

Bldg. 0051

Pueblo Chemical Depot

Pueblo Co: CO 81006-

Landholding Agency: Army

Property Number: 21200420165

Status: Unutilized

Reason: Extensive deterioration

Bldg. 00630

Pueblo Chemical Depot

Pueblo Co: CO 81006-

Landholding Agency: Army

Property Number: 21200420166

Status: Unutilized

Reason: Extensive deterioration

Florida

Bldg. 1404

Naval Air Station

Milton Co: FL 32570-6008

Landholding Agency: Navy

Property Number: 77200420029

Status: Excess

Reasons: Within 2000 ft. of flammable or explosive material Secured Area, Extensive deterioration

Bldg. 583

Naval Air Station

Jacksonville Co: Duval FL 32212-

Landholding Agency: Navy

Property Number: 77200420030

Status: Unutilized

Reason: Extensive deterioration

Georgia

Bldg. 00111

Fort Gillem

Forest Park Co: Clayton GA 30297-5122

Landholding Agency: Army

Property Number: 21200420074

Status: Unutilized

Reason: Extensive deterioration

Bldg. 404

Fort Gillem

Forest Park Co: Clayton GA 30297-

Landholding Agency: Army

Property Number: 21200420075

Status: Unutilized

Reason: Extensive deterioration

Bldg. 00813

Fort Gillem

Forest Park Co: Clayton GA 30297-

Landholding Agency: Army

Property Number: 21200420076

Status: Unutilized

Reason: Extensive deterioration

Bldg. 00814

Fort Gillem

Forest Park Co: Clayton GA 30297-

Landholding Agency: Army

Property Number: 21200420077

Status: Unutilized

Reason: Extensive deterioration

Bldg. 00817

Fort Gillem

Forest Park Co: Clayton GA 30297-

Landholding Agency: Army

Property Number: 21200420078

Status: Unutilized

Reason: Extensive deterioration

Bldg. 00818

Fort Gillem

Forest Park Co: Clayton GA 30297-

Landholding Agency: Army

Property Number: 21200420079

Status: Unutilized

Reason: Extensive deterioration

Bldg. 00819

Fort Gillem

Forest Park Co: Clayton GA 30297-

Landholding Agency: Army

Property Number: 21200420080

Status: Unutilized

Reason: Extensive deterioration

Bldg. 00820

Fort Gillem

Forest Park Co: Clayton GA 30297-

Landholding Agency: Army

Property Number: 21200420081

Status: Unutilized

Reason: Extensive deterioration

Bldg. 00822

Fort Gillem

Forest Park Co: Clayton GA 30297-

Landholding Agency: Army

Property Number: 21200420082

Status: Unutilized

Reason: Extensive deterioration

Bldgs. 00434, D2053

Fort Gordon

Ft. Gordon Co: Richmond GA 30905-

Landholding Agency: Army

Property Number: 21200420167

Status: Unutilized

Reason: Extensive deterioration

Bldg. 00465

Fort Gordon

Ft. Gordon Co: Richmond GA 30905-

Landholding Agency: Army

Property Number: 21200420168

Status: Unutilized

Reason: Extensive deterioration

Bldg. 00466

Fort Gordon

Ft. Gordon Co: Richmond GA 30905-

Landholding Agency: Army

Property Number: 21200420169

Status: Unutilized

Reason: Extensive deterioration

Bldgs. 00468, 00471

Fort Gordon

Ft. Gordon Co: Richmond GA 30905-

Landholding Agency: Army

Property Number: 21200420170

Status: Unutilized

Reason: Extensive deterioration

6 Bldgs.

Fort Gordon

Ft. Gordon Co: Richmond GA 30905-

Location: 15901, 15906, 15907, 16901, 16902, 16903

Landholding Agency: Army

Property Number: 21200420171

Status: Unutilized

Reason: Extensive deterioration

Bldgs. 34508, G0003

Fort Gordon

Ft. Gordon Co: Richmond GA 30905-

Landholding Agency: Army

Property Number: 21200420172

Status: Unutilized

Reason: Extensive deterioration

Idaho

Bldg. 0708

Middleton Co: Canyon ID 83644-

Landholding Agency: Interior

Property Number: 61200420005

Status: Unutilized

Reason: Extensive deterioration

Bldg. 0709

Middleton Co: Canyon ID 83644-

Landholding Agency: Interior

Property Number: 61200420006

Status: Unutilized

Reason: Extensive deterioration

Bldg. 0717

Fruitland Co: Payette ID 83619-

Landholding Agency: Interior

Property Number: 61200420007

Status: Unutilized

Reason: Extensive deterioration

Iowa

Bldg. 01073

Iowa Army Ammo Plant

Middletown Co: Des Moines IA 52638-

Landholding Agency: Army

Property Number: 21200420083

Status: Unutilized

Reason: Secured Area

Kansas

Bldg. 170

Fort Leavenworth

Leavenworth Co: KS 66027-

Landholding Agency: Army

Property Number: 21200420084

Status: Unutilized

Reason: Extensive deterioration

Kentucky

Bldg. 01137

Fort Knox

Ft. Knox Co: Hardin KY 40121-

Landholding Agency: Army

Property Number: 21200420085

Status: Unutilized

Reason: Extensive deterioration

Bldgs. 01197, 01198

Fort Knox

Ft. Knox Co: Hardin KY 40121-

Landholding Agency: Army

Property Number: 21200420086

Status: Unutilized

Reason: Extensive deterioration

Bldgs. 05757, 05801

Fort Knox

Ft. Knox Co: Hardin KY 40121-

Landholding Agency: Army

Property Number: 21200420087

Status: Unutilized

Reason: Extensive deterioration

Bldg. A7170

Fort Campbell

Ft. Campbell Co: Christian KY 42223-

Landholding Agency: Army

Property Number: 21200420088

Status: Unutilized

Reason: Extensive deterioration

Maryland

Bldg. 4585

Fort George G. Meade

Ft. Meade Co: MD 20755-5115

Landholding Agency: Army

Property Number: 21200420096

Status: Unutilized

Reason: Extensive deterioration

10 Bldgs.

Aberdeen Proving Ground

Harford Co: MD 21005-

Location: E1340 thru E1349

Landholding Agency: Army

Property Number: 21200420097

Status: Unutilized

Reason: Extensive deterioration

20 Bldgs.

Aberdeen Proving Ground

Harford Co: MD 21005-

Location: E3030, E3032, E3034, E3036, E3038, E3040, E3042, E3044, E3046, E3061 thru E3070, E3072

Landholding Agency: Army

Property Number: 21200420098

Status: Unutilized

Reason: Extensive deterioration

5 Bldgs.

Aberdeen Proving Ground

Harford Co: MD 21005-

Location: E3035, E3041, E3076, E3078, E3080

Landholding Agency: Army

Property Number: 21200420099

Status: Unutilized

Reason: Extensive deterioration

Bldgs. E3039, E3060, E3073

Aberdeen Proving Ground

Harford Co: MD 21005-

Landholding Agency: Army

Property Number: 21200420100

Status: Unutilized

Reason: Extensive deterioration

Bldg. 05114

Aberdeen Proving Ground

Harford Co: MD 21005-

Landholding Agency: Army

Property Number: 21200420101

Status: Unutilized

Reason: Extensive deterioration

Bldg. 05208

Aberdeen Proving Ground

Harford Co: MD 21005-

Landholding Agency: Army

Property Number: 21200420102

Status: Unutilized

Reason: Extensive deterioration

Bldg. 5660

Aberdeen Proving Ground

Harford Co: MD 21005-

Landholding Agency: Army

Property Number: 21200420103

Status: Unutilized

Reason: Extensive deterioration

Massachusetts

Bldg. ODO50

Fera USARC

Danvers Co: Essex MA 01923-1121

Landholding Agency: Army

Property Number: 21200420089

Status: Unutilized

Reason: Extensive deterioration

Bldg. ODO58

Fera USARC

Danvers Co: Essex MA 01923-1121

Landholding Agency: Army

Property Number: 21200420090

Status: Unutilized

Reason: Extensive deterioration

Bldgs. ODO60, ODO62

Fera USARC

Danvers Co: Essex MA 01923-1121

Landholding Agency: Army

Property Number: 21200420091

Status: Unutilized

Reason: Extensive deterioration

Bldgs. ODO76, ODO77

Fera USARC

Danvers Co: Essex MA 01923-1121

Landholding Agency: Army

Property Number: 21200420092

Status: Unutilized

Reason: Extensive deterioration

Michigan

Bldg. 930

U.S. Army Garrison-Selfridge

Selfridge Co: MI 48045-

Landholding Agency: Army

Property Number: 21200420093

Status: Unutilized

Reason: Secured Area

Bldg. 001

Crabble USARC

Saginaw Co: MI 48601-4099

Landholding Agency: Army

Property Number: 21200420094

Status: Unutilized

Reason: Extensive deterioration

Bldgs. 8673, 8675

Poxin USARC

Saginaw Co: Oaklan MI 48034-2295

Landholding Agency: Army

Property Number: 21200420095

Status: Unutilized

Reason: Extensive deterioration

Montana

Bldg. P0516

Fort Harrison

Ft. Harrison Co: Lewis/Clark MT 59636-

Landholding Agency: Army

Property Number: 21200420104

Status: Excess

Reasons: Secured Area, Extensive deterioration

New Hampshire

Naval Obs. Tower

Rye Co: NH 03870-

Landholding Agency: GSA

Property Number: 54200420007

Status: Excess

Reason: contamination

GSA Number: 1-N-NH-451

New Jersey

Bldg. 00695

Fort Monmouth

Ft. Monmouth Co: NJ 07703-

Landholding Agency: Army

Property Number: 21200420105

Status: Unutilized

Reason: Extensive deterioration

Bldg. 00739

Fort Monmouth

Ft. Monmouth Co: NJ 07703-

Landholding Agency: Army

Property Number: 21200420106

Status: Unutilized

Reason: Extensive deterioration

Bldg. 00744

Fort Monmouth

Ft. Monmouth Co: NJ 07703-

Landholding Agency: Army

Property Number: 21200420107

Status: Unutilized

Reason: Extensive deterioration

Bldgs. 00746-00749

Fort Monmouth

Ft. Monmouth Co: NJ 07703-

Landholding Agency: Army

Property Number: 21200420108

Status: Unutilized

Reason: Extensive deterioration

Bldg. PO1137

Fort Dix

Ft. Dix Co: Burlington NJ 08640-5506

Landholding Agency: Army

Property Number: 21200420109

Status: Unutilized

Reason: Extensive deterioration

Bldg. TO6734

Fort Dix

Ft. Dix Co: Burlington NJ 08640-5506

Landholding Agency: Army

Property Number: 21200420110

Status: Unutilized

Reason: Extensive deterioration

Bldg. TO6840

Fort Dix

Ft. Dix Co: Burlington NJ 08640-5505

Landholding Agency: Army

Property Number: 21200420111

Status: Unutilized

Reason: Extensive deterioration

New York

Bldg. 00031

Fort Drum

Ft. Drum Co: Jefferson NY 13602-

Landholding Agency: Army

Property Number: 21200420112

Status: Unutilized

Reason: Extensive deterioration

Bldgs. 00331, 00337, 00339

Fort Drum

Ft. Drum Co: Jefferson NY 13602-

Landholding Agency: Army

Property Number: 21200420113

Status: Unutilized

Reason: Extensive deterioration

Bldgs. 00367-00369

Fort Drum

Ft. Drum Co: Jefferson NY 13602-

Landholding Agency: Army

Property Number: 21200420114

Status: Unutilized

Reason: Extensive deterioration

Bldgs. 00630-00632

Fort Drum

Ft. Drum Co: Jefferson NY 13602-

Landholding Agency: Army

Property Number: 21200420115

Status: Unutilized

Reason: Extensive deterioration

Bldgs. 00634-00635

Fort Drum

Ft. Drum Co: Jefferson NY 13602-

Landholding Agency: Army

Property Number: 21200420116

Status: Unutilized

Reason: Extensive deterioration

Bldgs. 00637-00639

Fort Drum

Ft. Drum Co: Jefferson NY 13602-

Landholding Agency: Army

Property Number: 21200420117

Status: Unutilized

Reason: Extensive deterioration

Bldgs. 00660-00665

Fort Drum

Ft. Drum Co: Jefferson NY 13602-

Landholding Agency: Army

Property Number: 21200420118

Status: Unutilized

Reason: Extensive deterioration

Bldg. 00701

Fort Drum

Ft. Drum Co: Jefferson NY 13602-

Landholding Agency: Army

Property Number: 21200420119

Status: Unutilized

Reason: Extensive deterioration

Bldgs. 00730-00732

Fort Drum

Ft. Drum Co: Jefferson NY 13602-

Landholding Agency: Army

Property Number: 21200420120

Status: Unutilized

Reason: Extensive deterioration

Bldgs. 00737-00739

Fort Drum

Ft. Drum Co: Jefferson NY 13602-

Landholding Agency: Army

Property Number: 21200420121

Status: Unutilized

Reason: Extensive deterioration

Bldg. 00760

Fort Drum

Ft. Drum Co: Jefferson NY 13602-

Landholding Agency: Army

Property Number: 21200420122

Status: Unutilized

Reason: Extensive deterioration

Bldgs. 00762-00765

Fort Drum

Ft. Drum Co: Jefferson NY 13602-

Landholding Agency: Army

Property Number: 21200420123

Status: Unutilized

Reason: Extensive deterioration

Bldgs. 00767, 00769

Fort Drum

Ft. Drum Co: Jefferson NY 13602-

Landholding Agency: Army

Property Number: 21200420124

Status: Unutilized

Reason: Extensive deterioration

Bldgs. 00830-00834

Fort Drum

Ft. Drum Co: Jefferson NY 13602-

Landholding Agency: Army

Property Number: 21200420125

Status: Unutilized

Reason: Extensive deterioration

Bldgs. 00836-00839

Fort Drum

Ft. Drum Co: Jefferson NY 13602-

Landholding Agency: Army

Property Number: 21200420126

Status: Unutilized

Reason: Extensive deterioration

Bldgs. 02583, 02600

Fort Drum

Ft. Drum Co: Jefferson NY 13602-

Landholding Agency: Army

Property Number: 21200420127

Status: Unutilized

Reason: Extensive deterioration

Bldgs. 04870-04871

Fort Drum

Ft. Drum Co: Jefferson NY 13602-

Landholding Agency: Army

Property Number: 21200420128

Status: Unutilized

Reason: Extensive deterioration

North Carolina

Bldg. X2670

Fort Bragg

Ft. Bragg Co: Cumberland NC 28314-

Landholding Agency: Army

Property Number: 21200420129

Status: Unutilized

Reason: Extensive deterioration

Bldg. 31538

Fort Bragg

Ft. Bragg Co: Cumberland NC 28314-

Landholding Agency: Army

Property Number: 21200420130

Status: Unutilized

Reason: Extensive deterioration

Bldg. RPFN012

USCG Cape Hatteras

Buxton Co: Dare NC 27902-

Landholding Agency: Coast Guard

Property Number: 88200420005

Status: Unutilized

Reasons: Secured Area, Extensive deterioration

Ohio

Bldg. 1039

Ravenna Army Ammo Plant

Ravenna Co: Portage OH 44266-9297

Landholding Agency: Army

Property Number: 21200420131

Status: Excess

Reasons: Within 2000 ft. of flammable or explosive material, Secured Area, Extensive deterioration

Bldgs. 1200, T4602, T4605

Ravenna Army Ammo Plant

Ravenna Co: Portage OH 44266-9297

Landholding Agency: Army

Property Number: 21200420132

Status: Excess

Reasons: Within 2000 ft. of flammable or explosive material, Secured Area, Extensive deterioration

Pennsylvania

Bldgs. T1441, T1452, 01457

Letterkenny Army Depot

Chambersburg Co: Franklin PA 17201-

Landholding Agency: Army

Property Number: 21200420133

Status: Unutilized

Reasons: Within 2000 ft. of flammable or explosive material, Secured Area, Extensive deterioration

Bldgs. T2361, T2362

Letterkenny Army Depot

Chambersburg Co: Franklin PA 17201-

Landholding Agency: Army

Property Number: 21200420134

Status: Unutilized

Reasons: Within 2000 ft. of flammable or explosive material, Secured Area, Extensive deterioration

Bldgs. 02381, T2381, S2386

Letterkenny Army Depot

Chambersburg Co: Franklin PA 17201-

Landholding Agency: Army

Property Number: 21200420135

Status: Unutilized

Reasons: Within 2000 ft. of flammable or explosive material, Secured Area, Extensive deterioration

Bldg. 02628

Letterkenny Army Depot

Chambersburg Co: Franklin PA 17201-

Landholding Agency: Army

Property Number: 21200420136

Status: Unutilized

Reasons: Within 2000 ft. of flammable or explosive material, Secured Area, Extensive deterioration

Bldgs. T2772, T2796

Letterkenny Army Depot

Chambersburg Co: Franklin PA 17201-

Landholding Agency: Army

Property Number: 21200420137

Status: Unutilized

Reasons: Within 2000 ft. of flammable or explosive material, Secured Area, Extensive deterioration

Bldgs. 03223, T3251, T3256

Letterkenny Army Depot

Chambersburg Co: Franklin PA 17201-

Landholding Agency: Army

Property Number: 21200420138

Status: Unutilized

Reasons: Within 2000 ft. of flammable or explosive material, Secured Area, Extensive deterioration

Bldgs. T3380, T3381

Letterkenny Army Depot

Chambersburg Co: Franklin PA 17201-

Landholding Agency: Army

Property Number: 21200420139

Status: Unutilized

Reasons: Within 2000 ft. of flammable or explosive material, Secured Area, Extensive deterioration

4 Bldgs.

Letterkenny Army Depot

T3728, S3743, S3744, S3783

Chambersburg Co: Franklin PA 17201-

Landholding Agency: Army

Property Number: 21200420140

Status: Unutilized

Reasons: Within 2000 ft. of flammable or explosive material, Secured Area, Extensive deterioration

Bldgs. T5313, T5315

Letterkenny Army Depot

Chambersburg Co: Franklin PA 17201-

Landholding Agency: Army

Property Number: 21200420141

Status: Unutilized

Reasons: Within 2000 ft. of flammable or explosive material, Secured Area, Extensive deterioration

Bldg. T5546

Letterkenny Army Depot

Chambersburg Co: Franklin PA 17201-

Landholding Agency: Army

Property Number: 21200420142

Status: Unutilized

Reasons: Within 2000 ft. of flammable or explosive material, Secured Area, Extensive deterioration

Bldgs. 05662, 05663

Letterkenny Army Depot

Chambersburg Co: Franklin PA 17201-

Landholding Agency: Army

Property Number: 21200420143

Status: Unutilized

Reasons: Within 2000 ft. of flammable or explosive material, Secured Area, Extensive deterioration

Bldg. T5748

Letterkenny Army Depot

Chambersburg Co: Franklin PA 17201-

Landholding Agency: Army

Property Number: 21200420144

Status: Unutilized

Reasons: Within 2000 ft. of flammable or explosive material, Secured Area, Extensive deterioration

Bldg. 00014

CE Kelly Support Facility

Oakdale Co: Allegheny PA 15071-

Landholding Agency: Army

Property Number: 21200420153

Status: Underutilized

Reason: Secured Area

Bldg. 00033

CE Kelly Support Facility

Oakdale Co: Allegheny PA 15071-

Landholding Agency: Army

Property Number: 21200420154

Status: Unutilized

Reason: Secured Area

Bldg. 00044

CE Kelly Support Facility

Oakdale Co: Allegheny PA 15071-

Landholding Agency: Army

Property Number: 21200420155

Status: Unutilized

Reason: Secured Area

Puerto Rico

Bldgs. 01241, 01243, 01244

Fort Buchanan

Ft. Buchanan Co: Guayanabo PR 00934-

Landholding Agency: Army

Property Number: 21200420156

Status: Excess

Reason: Secured Area

4 Bldgs.

Fort Buchanan

01245, 01246, 01247, 01248

Ft. Buchanan Co: Guayanabo PR 00934-

Landholding Agency: Army

Property Number: 21200420157

Status: Excess

Reason: Secured Area

4 Bldgs.

Fort Buchanan

01249, 01250, 01259, 1261

Ft. Buchanan Co: Guayanabo PR 00934-

Landholding Agency: Army

Property Number: 21200420158

Status: Excess

Reason: Secured Area

4 Bldgs.

Fort Buchanan

01263, 01265, 01267, 01269

Ft. Buchanan Co: Guayanabo PR 00934-

Landholding Agency: Army

Property Number: 21200420159

Status: Excess

Reason: Secured Area

4 Bldgs.

Fort Buchanan

01271, 01272, 01273, 01284

Ft. Buchanan Co: Guayanabo PR 00934-

Landholding Agency: Army

Property Number: 21200420160

Status: Excess

Reason: Secured Area

South Carolina

Bldg. 703-F

Savannah River Operations

Aiken Co: SC 29802-

Landholding Agency: Energy

Property Number: 41200420019

Status: Unutilized

Reason: Secured Area

Bldg. 721-A

Savannah River Operations

Aiken Co: SC 29802-

Landholding Agency: Energy

Property Number: 41200420020

Status: Unutilized

Reason: Secured Area

Bldg. 724-A

Savannah River Operations

Aiken Co: SC 29802-

Landholding Agency: Energy

Property Number: 41200420021

Status: Unutilized

Reason: Secured Area

Bldg. 730-M

Savannah River Operations

Aiken Co: SC 29802-

Landholding Agency: Energy

Property Number: 41200420022

Status: Unutilized

Reason: Secured Area

Tennessee

Bldg. 0611

Fort Campbell

Ft. Campbell Co: Montgomery TN 42223-

Landholding Agency: Army

Property Number: 21200420145

Status: Unutilized

Reason: Extensive deterioration

Texas

Bldgs. 56208, 56220

Fort Hood

Ft. Hood Co: Bell TX 76544-

Landholding Agency: Army

Property Number: 21200420146

Status: Unutilized

Reason: Extensive deterioration

Bldgs. 56232, 56252, 56272

Fort Hood

Ft. Hood Co: Bell TX 76544-

Landholding Agency: Army

Property Number: 21200420147

Status: Unutilized

Reason: Extensive deterioration

Bldgs. D5030, D5031

Grand Prairie Reserve Complex

Grand Prairie Co: Tarrant TX 75051-

Landholding Agency: Army

Property Number: 21200420152

Status: Unutilized

Reasons: Secured Area

Extensive deterioration

Bldg. 39

Naval Air Station

Corpus Christi Co: Nueces TX 78419-5021

Landholding Agency: Navy

Property Number: 77200420034

Status: Excess

Reason: Extensive deterioration

Virginia

Bldg. T2101

Fort Pickett

Blackstone Co: Nottoway VA 23824-

Landholding Agency: Army

Property Number: 21200420148

Status: Unutilized

Reason: Extensive deterioration

Wisconsin

Bldgs. MOUT1, MOUT2

Fort McCoy

Ft. McCoy Co: Monroe WI 54656-

Landholding Agency: Army

Property Number: 21200420149

Status: Unutilized

Reason: Extensive deterioration

Bldgs. 08213, 08232

Fort McCoy

Ft. McCoy Co: Monroe WI 54656-

Landholding Agency: Army

Property Number: 21200420150

Status: Unutilized

Reason: Extensive deterioration

Bldg. 02016

Fort McCoy

Ft. McCoy Co: Monroe WI 54656-

Landholding Agency: Army

Property Number: 21200420151

Status: Unutilized

Reason: contamination

Land (by State)

New Jersey

Maurice River Land

Commercial Twnsp Co: Cumberland NJ 08349-

Landholding Agency: GSA

Property Number: 54200420011

Status: Excess

Reason: Not accessible by road

GSA Number: 1-U-NJ-647-1

Ohio

Manhattan Rear Range Light

Toledo Co: Lucas OH 43611-

Landholding Agency: GSA

Property Number: 54200420012

Status: Excess

Reason: landlocked

GSA Number: 1-U-OH-822-1

[FR Doc. 04-11250 Filed 5-20-04; 8:45 am]

BILLING CODE 4210-29-P